NATIONAL TRANSPORTATION SAFETY BOARD

Sunshine Act Meeting Notice

TIME AND DATE: 9:30 a.m., Wednesday, October 13, 2004.

PLACE: NTSB Board Room, 429 L'Enfant Plaza, SW., Washington, DC 20594

STATUS: The two items are open to the public.

MATTERS TO BE CONSIDERED:

7671 Aviation Accident Report—In-fight Engine Failure and Subsequent Ditching of Air Sunshine, Inc., flight 527, Cessna 402C, N314AB, about 7.35 Nautical Miles West-Northwest of Treasure Cay, Great Abaco Island, Bahamas, July 13, 2003.

7666 Pipeline Accident Report—Storage Tank Explosion and Fire in Glenpool, Oklahoma, April 7, 2003.

News Media Contact: Telephone: (202) 314-6100.

Individuals requesting specific accommodations should contact Ms. Carolyn Dargan at (202) 314-6305 by Friday, October 8, 2004.

The public may view the meeting via a live or archived Webcast by accessing a link under “News & Events” on the NTSB home page at http://www.ntsb.gov.

FOR MORE INFORMATION CONTACT: Vicky D'Onofrio, (202) 314-6410.

Dated: October 2, 2004.
Vicky D'Onofrio,
Federal Register Liaison Officer.

[FR Doc. 04-22579 Filed 10-4-04; 12:30 pm]

BILLING CODE 7533-01-P